DEPARTMENT OF HOMELAND SECURITY

Coast Guard

DEPARTMENT OF TRANSPORTATION

Maritime Administration

[USCG-2005-22219]

Northeast Gateway Energy Bridge, L.L.C., Liquefied Natural Gas Deepwater Port License Application; Preparation of Environmental Impact Statement

AGENCY: Coast Guard, DHS; Maritime Administration, DOT.

ACTION: Notice of intent; notice of public meeting; request for comments.

SUMMARY: The Coast Guard and the Maritime Administration (MARAD) announce that the Coast Guard intends to prepare an environmental impact statement (EIS) as part of the environmental review of this license application. The application describes a project that would be located in Massachusetts Bay, in Block 125, approximately 13 miles south-southeast of Gloucester, MA. Publication of this notice begins a scoping process that will help identify and determine the scope of environmental issues to be addressed in the EIS. This notice requests public participation in the scoping process and provides information on how to participate in the process.

DATES: A public meeting will be held in Boston, MA on October 18, 2005. There will also be a public meeting in Gloucester, MA on October 19, 2005. Both meetings will be from 6 p.m. to 8 p.m. and will be preceded by an informational open house from 4:30 p.m. to 6 p.m. The public meetings may end later than the stated time, depending on the number of persons wishing to speak. Material submitted in response to the request for comments for the scoping process must reach the Docket Management Facility by October 31, 2005.

ADDRESSES: The public meeting in Boston will be held at Faneuil Hall, 1 Faneuil Hall Square, Boston, MA, telephone: 617-635-4100. The public meeting in Gloucester will be at The Elks at Bass Rocks, 101 Atlantic Road, Gloucester, MA, telephone: 978-282-3200.

Address docket submissions for USCG-2005-22219 to: Docket Management Facility, U.S. Department of Transportation, 400 Seventh Street, SW., Washington, DC 20590-0001.

The Docket Management Facility accepts hand-delivered submissions, and makes docket contents available for public inspection and copying at this address, in room PL-401, between 9 a.m. and 5 p.m., Monday through Friday, except Federal holidays. The Facility's telephone number is 202-366-9329, its fax number is 202-493-2251, and its Web site for electronic submissions or for electronic access to docket contents is http://dms.dot.gov.

FOR FURTHER INFORMATION CONTACT: Roddy Bachman, U.S. Coast Guard, telephone: 202-267-1752, e-mail: rbachman@comdt.uscg.mil. If you have questions on viewing the docket, call Renee V. Wright, Program Manager, Docket Operations, telephone: 202-493-0402.

SUPPLEMENTARY INFORMATION:

Public Meeting and Open House

We invite you to learn about the proposed deepwater port at an informational open house, and to comment at a public meeting on environmental issues related to the proposed deepwater port. Your comments will help us identify and refine the scope of the environmental issues to be addressed in the EIS.

In order to allow everyone a chance to speak at the public meeting, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Docket Management Facility's Docket Management System (DMS). See “Request for Comments” for information about DMS and your rights under the Privacy Act.

All our public meeting locations are wheelchair-accessible. If you plan to attend the open house or public meeting, and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port. The public meeting is not the only opportunity you have to comment. In addition to or in place of attending a meeting, you can submit comments to the Docket Management Facility during the public comment period (see DATES). We will consider all comments and material received during the comment period.

Submissions should include:

• Docket number USCG-2005-22219.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

Information about deepwater ports, the statutes, and regulations governing their licensing, and the receipt of the current application for a liquefied natural gas (LNG) deepwater port appears at 70 FR 52422, September 2, 2005. The “Summary of the Application” from that publication is reprinted below for your convenience.

Consideration of a deepwater port license application includes review of the proposed deepwater port's natural and human environmental impacts. The Coast Guard is the lead agency for determining the scope of this review, and in this case the Coast Guard has determined that review must include preparation of an EIS. This notice of intent is required by 40 CFR 1508.22, and briefly describes the proposed action and possible alternatives and our proposed scoping process. You can address any questions about the proposed action, the scoping process, or the EIS to the Coast Guard project manager identified in FOR FURTHER INFORMATION CONTACT.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative.

Scoping Process

Public scoping is an early and open process for identifying and determining the scope of issues to be addressed in the EIS. Scoping begins with this notice, continues through the public comment period (see DATES), and ends when the Coast Guard has completed the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

Once the scoping process is complete, the Coast Guard will prepare a draft EIS, and we will publish a Federal Register notice announcing its public availability. (If you want that notice to be sent to you, please contact the Coast Guard project manager identified in FOR FURTHER INFORMATION CONTACT.) You will have an opportunity to review and comment on the draft EIS. The Coast Guard will consider those comments and then prepare the final EIS. As with the draft EIS, we will announce the availability of the final EIS and once again give you an opportunity for review and comment.

Summary of the Application

Northeast Gateway Energy Bridge, L.L.C. has proposed a facility to import liquefied natural gas (LNG) into the New England region providing a base load delivery of 400 million cubic feet per day (MMcfd) and capable of peak deliveries of approximately 800 MMcfd or more. The facility will be located offshore in Massachusetts Bay, approximately 13 miles south-southeast of the city of Gloucester, MA, in federal waters approximately 270 to 290 feet in depth, commonly referred to as Block 125.

Northeast Gateway will deliver natural gas to onshore markets via a new 24-inch-diameter-pipeline, approximately 16.4 miles in length, from the proposed deepwater port to the existing offshore 30-inch-diameter Algonquin HubLine Pipeline System. The proposed new pipeline lateral will be owned and operated by Algonquin Gas Transmission, LLC. Algonquin is seeking Federal Energy Regulatory Commission (FERC) approval for the pipeline concurrent with this deepwater port application. In addition, pipelines within the three-mile limit require an Army Corps of Engineers (USACE) permit under Section 404 of the Clean Water Act and Section 10 of the Rivers and Harbors Act. Structures such as the moorings and lateral pipelines beyond the three-mile limit require a Section 10 permit.

As required by their regulations, FERC will also maintain a docket. This is available at the FERC Web site (http://www.ferc.gov) using the “Documents & Filing” then “eLibrary” link and FERC Docket number CP05-383. The eLibrary helpline is 1-866-208-3676 or e-mail online support is at FercOnlineSupport@ferc.gov. As required by their regulations, the USACE will maintain a permit file. The USACE New England District phone number is 978-318-8338 and their Web site is http://www.nae.usace.army.mil.

The new pipeline will be included in the National Environmental Policy Act (NEPA) review as part of the deepwater port application process. FERC and the USACE among others are cooperating agencies and will assist in the NEPA process as described in 40 CFR 1501.6; will be participating in the scoping meetings; and will conduct joint public meetings with the Coast Guard and MARAD when the draft EIS is released for public comment. Comments sent to the FERC docket or USACE will also be incorporated into the DOT docket and EIS to ensure consistency with the NEPA Process.

The Northeast Gateway deepwater port facility will consist of two subsea submerged turret loading buoys (STL Buoys), two flexible risers, two pipeline end manifolds (PLEMs), and two subsea flow lines. Each STL Buoy will connect to a PLEM using the flexible riser assembly, and the PLEM will connect to the subsea flow line. A fleet of specially designed Energy Bridge Regasification Vessels (EBRVs), each capable of transporting approximately 4.9 million cubic feet (138,000 cubic meters) of LNG, will deliver natural gas to the Northeast Gateway DWP.

The EBRVs will vaporize the LNG in a closed loop mode of recirculating fresh water on-board requiring no intake or discharge of seawater for the vaporization process. Natural gas will be used to operate the regasification facilities as well as to provide vessel electrical needs in normal operation.

Dated: September 28, 2005.
Howard L. Hime,
Acting Director of Standards, Marine Safety, Security, and Environmental Protection, U.S. Coast Guard.
H. Keith Lesnick,
Senior Transportation, Specialist, Deepwater and Ports Program Manager, U.S. Maritime Administration.

[FR Doc. 05-19951 Filed 10-4-05; 8:45 am]

BILLING CODE 4910-15-M